DEPARTMENT OF JUSTICE

Notice of Lodging of Proposed Consent Decree Under the Comprehensive Environmental Response, Compensation and Liability Act

On November 4, 2016, the Department of Justice lodged a proposed consent decree with the United States District Court for the Southern District of Mississippi in the lawsuit entitled United States and Mississippi Commission on Environmental Quality v. Estate of William Troy Burford and Sonford Products Corporation, Civil Action No. 3:16-cv-00869-CWR-FKB.

The consent decree would resolve claims under CERCLA § 107(a), 42 U.S.C. 9607(a), for recovery of response costs in connection with the Sonford Products Superfund Site in Flowood, Rankin County, Mississippi (“Site”). The consent decree also contains a covenant under CERCLA § 106, 42 U.S.C. 9606, for damages related to injury to, destruction of, or loss of natural resources at the Site. The Mississippi Commission on Environmental Quality is a co-plaintiff; the Consent Decree would resolve its claims under state law.

The six-acre Site is located in Flowood, east of Jackson, Mississippi. Defendant Sonford Products Corporation operated a chemical processing facility at the Site from 1970 to 1985. It formulated pentachlorophenol (“PCP”) for wood preserving and saw mill operations. On April 18, 1985, approximately 2,000 gallons of PCP spilled from the Sonford Products facility into wetlands on the Site. Since that time, the U.S. Environmental Protection Agency and the Mississippi Department of Natural Resources have been responding to the release or threatened release of PCP and other hazardous substances at the Site. The cost of the response is expected to exceed $27 million.

Defendant Sonford Products Corporation has been dissolved. Defendant Estate of William Troy Burford has no assets other than proceeds from insurance policies issued to Sonford Products. The proposed consent decree would allow for the recovery of insurance proceeds from three insurers. The total value of the settlement is $257,500. Of that amount, the Estate will receive $2,500 plus the reasonable fees and expenses associated with administration of the Estate. The United States will receive 95 percent of the remainder and the State of Mississippi will receive 5 percent.

The publication of this notice opens a period for public comment on the proposed consent decree. Comments should be addressed to the Assistant Attorney General, Environment and Natural Resources Division, and should refer to United States and Mississippi Commission on Environmental Quality v. Estate of William Troy Burford and Sonford Products Corporation, D.J. Ref. No. 90-11-3-10806. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed consent decree may be examined and downloaded at this Justice Department Web site: https://www.justice.gov/enrd/consent-decrees. We will provide a paper copy of the proposed consent decree upon written request and payment of reproduction costs. Please mail your request and payment to: Consent Decree Library, U.S. DOJ—ENRD, P.O. Box 7611, Washington, DC 20044-7611.

Please enclose a check or money order for $7.00 (25 cents per page reproduction cost) payable to the United States Treasury.

Henry Friedman,
Assistant Section Chief, Environmental Enforcement Section, Environment and Natural Resources Division.

[FR Doc. 2016-27537 Filed 11-15-16; 8:45 am]

BILLING CODE 4410-15-P